DEPARTMENT OF LABOR

Employment and Training Administration

[TA-W-50,706]

Oregon Steel Mills, Inc., Portland Steel Works, Including Temporary Workers of Madden Industrial Craftsmen, Portland, Oregon; Amended Certification Regarding Eligibility To Apply for Worker Adjustment Assistance

In accordance with Section 223 of the Trade Act of 1974 (19 U.S.C. 2273) the Department of Labor issued a Certification of Eligibility to Apply for Worker Adjustment Assistance on May 9, 2003, applicable to workers of Oregon Steel Mills, Inc., Portland Steel Works, Portland, Oregon. The notice was published in the Federal Register on June 3, 2003 (68 FR 33197).

At the request of the petitioners, the Department reviewed the certification for workers of the subject firm. Information provided by the company shows that temporary workers of Madden Industrial Craftsmen were employed at Oregon Steel Mills, Inc., Portland Steel Works to produce slabs and hot-rolled steel plate at the Portland, Oregon location of the subject firm.

Based on these findings, the Department is amending the certification to include temporary workers of Madden Industrial Craftsmen employed at Oregon Steel Mills, Inc., Portland Steel Works, Portland, Oregon.

The intent of the Department's certification is to include all workers of Oregon Steel Mills, Inc., Portland Steel Works who were adversely affected by increased imports.

The amended notice applicable to TA-W-50,706 is hereby issued as follows:

All workers of Oregon Steel Mills, Inc., Portland Steel Works, Portland, Oregon, and temporary workers of Madden Industrial Craftsmen engaged in employment related to the production of slabs and hot-rolled steel plate working at Oregon Steel Mills, Inc., Portland Steel Works, Portland, Oregon, who became totally or partially separated from employment on or after January 27, 2002, through May 9, 2005, are eligible to apply for adjustment assistance under Section 223 of the Trade Act of 1974.

Signed at Washington, DC, this 25th day of July, 2003.
Richard Church,
Certifying Officer, Division of Trade Adjustment Assistance.

[FR Doc. 03-20105 Filed 8-6-03; 8:45 am]

BILLING CODE 4510-30-P